DEPARTMENT OF COMMERCE

National Oceanic and Atmospheric Administration

RIN 0648-XE642

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council's) Summer Flounder, Scup, and Black Sea Bass Advisory Panel will hold a public meeting.

DATES: The meeting will be held on Wednesday, June 22, 2016, from 10 a.m. until 4:30 p.m.

ADDRESSES: The meeting will be held at the Double Tree by Hilton Baltimore—BWI Airport, 890 Elkridge Landing Road, Linthicum, Maryland 21090; telephone: (410) 859-8400.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION: The Council's Summer Flounder, Scup, and Black Sea Bass Advisory Panel (AP) will meet jointly with the Atlantic States Marine Fisheries Commission's (ASMFC's) Summer Flounder, Scup, and Black Sea Bass Advisory Panel. The purpose of this meeting is to discuss recent performance of the commercial and recreational fisheries for summer flounder, scup, and black sea bass, and develop annual Fishery Performance Reports for these fisheries. The Council and the ASMFC will consider the Fishery Performance Reports later in 2016 when reviewing previously implemented multi-year fishery specifications (i.e., catch and landings limits and management measures) for 2017. The AP will also discuss summer flounder management alternatives under development for the Council and ASMFC's ongoing Comprehensive Summer Flounder Amendment.

Special Accommodations

The meeting is physically accessible to people with disabilities. Requests for sign language interpretation or other aid should be directed to M. Jan Saunders, (302) 526-5251, at least 5 days prior to the meeting date.

Dated: May 19, 2016.
Tracey L. Thompson,
Acting Deputy Director, Office of Sustainable Fisheries, National Marine Fisheries Service.

[FR Doc. 2016-12206 Filed 5-23-16; 8:45 am]

BILLING CODE 3510-22-P